Proclamation 7677 of May 9, 2003

National Safe Boating Week, 2003

By the President of the United States of America

A Proclamation

As summer approaches, Americans are looking forward to enjoying our Nation's rivers, lakes, and oceans. National statistics show that recreational boating is safer today than ever before, with the number of boating fatalities declining even as the number of boats increases. However, lives continue to be lost needlessly, and we must remain committed to boating safety. During National Safe Boating Week, we are reminded that practicing simple steps can make recreational boating safer and more enjoyable.

This year's theme, “Boat Smart. Boat Safe. Wear It!” highlights the importance and ease of wearing life jackets. Drowning remains the number one cause of recreational boating fatalities. According to the United States Coast Guard, nearly 80 percent of those who died in boating accidents in 2001 were not wearing life jackets. In many of these cases, life jackets were available on board, but were useless to the passengers in the boats because the speed and suddenness of the accident prevented them from having time to put on their life jackets. The chances of surviving a serious boating accident increase dramatically by wearing a life jacket. Modern life jackets are smaller, lighter, and more flexible, making them easier and more comfortable to wear.

The National Safe Boating Council, the National Association of State Boating Law Administrators, and the U.S. Coast Guard are working with other campaign partners to encourage safe boating practices through the 2003 North American Safe Boating Campaign. In addition to wearing life jackets, the campaign encourages boaters to enroll in a boating safety class, to ensure that boats are properly maintained and checked for safety, to follow regulations and guidelines relating to homeland security issues, and not to consume alcohol when operating a boat. More information about staying safe on the water is available by visiting the U.S. Coast Guard's Office of Boating Safety website at www.uscgboating.org. By improving our skills and increasing our knowledge of recreational boating safety, we can reduce the loss of life, the injuries, and the property damage that occur on our waterways.

Safe boating also contributes to homeland security and frees the time of public safety officers to focus on enforcement issues. The same Coast Guard members, marine patrol, police, and fire officers who respond to recreational boating accidents are also responsible for protecting the security of our ports and waterways. By avoiding boating accidents, Americans can help these officials devote more time and effort to safeguarding our homeland.

In recognition of the importance of safe boating practices, the Congress, by joint resolution approved June 4, 1958 (36 U.S.C. 131), as amended, has authorized and requested the President to proclaim annually the 7-day period prior to Memorial Day weekend as “National Safe Boating Week.”

NOW, THEREFORE, I, GEORGE W. BUSH, President of the United States of America, do hereby proclaim May 17 through May 23, 2003, as National Safe Boating Week. I encourage the Governors of the 50 States, the District of Columbia, the Commonwealth of Puerto Rico, and the officials of other areas subject to the jurisdiction of the United States, to join in observing this occasion. I also urge boaters to learn about proper boating practices, including the wearing of life jackets, and to take advantage of boating safety programs throughout the year.

IN WITNESS WHEREOF, I have hereunto set my hand this ninth day of May, in the year of our Lord two thousand three, and of the Independence of the United States of America the two hundred and twenty-seventh.

B

[FR Doc. 03-12198

Filed 5-13-03; 8:45 am]

Billing code 3195-01-P